POSTAL SERVICE

39 CFR Part 775

National Environmental Policy Act Procedures

AGENCY: Postal Service.

ACTION: Final rule.

SUMMARY: This rule amends the Postal Service's National Environmental Policy Act (NEPA) compliance procedures to update an obsolete statutory reference.

DATES: Effective Date: August 25, 2011.

ADDRESSES: Written communications should be directed to: Environmental Counsel, U.S. Postal Service, 4200 Wake Forest Rd., Raleigh, NC 27668-9000.

FOR FURTHER INFORMATION CONTACT: Gary W. Bigelow, Senior Litigation Counsel, Environmental Law, (919) 501-9439.

SUPPLEMENTARY INFORMATION: Amendment of 39 CFR 775.6(b)(15) is necessary to update a reference to the statutory provision dealing with the administrative procedures for the closing or consolidation of post offices. Formerly, that provision was codified at 39 U.S.C. 404(b), but under section 1010(e) of Public Law 109-435, 120 Stat. 3261, was redesignated as 39 U.S.C. 404(d). This rule updates the reference in § 775.6.

List of Subjects in 39 CFR Part 775

Environmental impact statements.

For the reasons set forth above, the Postal Service amends 39 CFR Part 775 as follows:

PART 775—NATIONAL ENVIRONMENTAL POLICY ACT PROCEDURES

1. The authority citation for 39 CFR Part 775 continues to read as follows:

Authority: 39 U.S.C. 401; 42 U.S.C. 4321 et seq.; 40 CFR 1500.4.

§ 775.6 [Amended]

2. In § 775.6(b)(15), remove “404(b)” and insert “404(d)” in its place.

Stanley F. Mires,
Chief Counsel, Legislative.

[FR Doc. 2011-21698 Filed 8-24-11; 8:45 am]

BILLING CODE 7710-12-P